DEPARTMENT OF EDUCATION

National Board for Education Sciences

AGENCY: Institute of Education Sciences, U.S. Department of Education.

ACTION: Announcement of an open teleconference meeting.

SUMMARY: This notice sets forth the proposed agenda, date, time and dial-in procedures for an upcoming meeting of the National Board for Education Sciences (NBES). The notice also describes the functions of NBES. Notice of this meeting is required by § 10(a)(2) of the Federal Advisory Committee Act and is intended to notify the public of their opportunity to attend the meeting.

DATES: The NBES meeting will be held on November 8, 2016, from 2:00 p.m. to 3:30 p.m. Eastern Standard Time via telephone conference.

ADDRESSES: The meeting will be conducted via telephone conference. Participants and members of the public should dial: (800) 779-9112 and enter code 8385849 when prompted. Members of the public will attend the meeting in listen-only mode. The meeting will also be hosted via webinar at: https://educate.webex.com/educate/j.php?MTID=mbb7da2a80e444fb357b3453eae1cc499. Members of the public wishing to attend the meeting should send an RSVP email to Kenann McKenzie-Thompson, NBES Executive Director, at Kenann.McKenzie-Thompson@ed.gov. RSVPs must be received no later than Tuesday, November 1, 2016. The conference line is limited to a first come, first served basis.

FOR FURTHER INFORMATION CONTACT: Ellie Pelaez, Designated Federal Official, NBES, U.S. Department of Education, 550 12th Street SW., Suite 4107, Washington, DC 20202; phone: (202) 245-7274; fax: (202) 245-6752; email: Ellie.Pelaez@ed.gov.

SUPPLEMENTARY INFORMATION: NBES's Statutory Authority and Function: NBES is authorized by § 116 of the Education Sciences Reform Act of 2002 (ESRA), 20 U.S.C. 9516. NBES advises the Director of the Institute of Education Sciences (the Institute) on, among other things, the establishment of activities to be supported by the Institute and the funding for applications for grants, contracts, and cooperative agreements for research after the completion of peer review. NBES also reviews and evaluates the work of the Institute.

Meeting Agenda: NBES members will discuss and propose candidates for the Board to elect a Chairperson of the NBES. Following that process, the newly elected Chairperson will lead the meeting, at which time the Institute Director and Commissioners of the National Education Centers will provide updates on the work of the Institute. A final agenda is available from Ellie Pelaez (see contact information above) and is posted on the NBES Web site http://ies.ed.gov/director/board/agendas/index.asp.

Submission of comments regarding the NBES's policy recommendations: There will not be an opportunity for public oral comments. However, members of the public are encouraged to submit any written comments no later than Tuesday, November 1, 2016 to Ellie Pelaez, Designated Federal Official, NBES, U.S. Department of Education, 550 12th Street SW., Suite 4107, Washington, DC 20202; phone: (202) 245-7274; fax: (202) 245-6752; email: Ellie.Pelaez@ed.gov.

Access to Records of the Meeting: The Department will post the meeting minutes on the NBES Web site no later than 90 days after the meeting. Pursuant to the Federal Advisory Committee Act, the public may also inspect the meeting minutes at 550 12th Street SW., 4th Floor, Washington, DC, by emailing Ellie.Pelaez@ed.gov or by calling (202) 245-7274 to schedule an appointment.

Reasonable Accommodations: If you will need an auxiliary aid or service to participate in the meeting (e.g., interpreting service, assistive listening device, or materials in an alternate format), notify Ellie Pelaez by or before November 1, 2016. Although we will attempt to meet any request(s) received after November 1, 2016, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Section 116 of the Education Sciences Reform Act of 2002 (ESRA), 20 U.S.C. 9516.

Ruth Neild,
Deputy Director for Policy and Research, Delegated Duties of the Director, Institute of Education Sciences.

[FR Doc. 2016-25680 Filed 10-21-16; 8:45 am]

BILLING CODE 4000-01-P